DEPARTMENT OF HOMELAND SECURITY

Federal Emergency Management Agency

[Docket ID FEMA-2014-0002]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: November 24, 2014.
Roy E. Wright,
Deputy Associate Administrator for Mitigation, Department of Homeland Security, Federal Emergency Management Agency.

State and county | Location and case No. | Chief executive officer of community | Community map repository | Effective date of modification | Community No.
New Jersey: Sussex (FEMA Docket No.: B-1424) | Township of Byram (14-02-1064P) | The Honorable James Oscovitch, Mayor, Township of Byram, 10 Mansfield Drive, Stanhope, NJ 07874 | Byram Township, Municipal Building, 10 Mansfield Drive, Stanhope, NJ 07874 | October 2, 2014 | 340557
New York:
Rockland, (FEMA Docket No.: B-1422) | Town of Ramapo (13-02-1859P) | The Honorable Christopher P. St. Lawrence, Supervisor, Town of Ramapo, 237 Route 59, Suffern, NY 10901 | Town of Ramapo, Department of Public Works, 16 Pioneer Avenue, Tallman, NY 10982 | October 16, 2014 | 365340
Rockland (FEMA Docket No.: B-1422) | Village of Hillburn (13-02-1859P) | The Honorable Craig M. Flanagan, Jr., Mayor, Village of Hillburn, 31 Mountain Avenue, Hillburn, NY 10931 | Village Hall, 31 Mountain Avenue, Hillburn, NY 10931 | October 16, 2014 | 360683
Oklahoma:
Carter (FEMA Docket No.: B-1432) | City of Ardmore (13-06-4203P) | The Honorable Martin Dyer, Mayor, City of Ardmore, P.O. Box 249, Ardmore, OK 73402 | Developmental Services Department, 23 South Washington Street, Ardmore, OK 73401 | October 17, 2014 | 400031
Oklahoma (FEMA Docket No.: B-1424) | City of Oklahoma City (14-06-0267P) | The Honorable Mick Cornett, Mayor, City of Oklahoma City, 200 North Walker Avenue, 3rd Floor, Oklahoma City, OK 73102 | 420 West Main Street, Suite 700, Oklahoma City, OK 73102 | October 9, 2014 | 405378
Pennsylvania:
Mercer (FEMA Docket No.: B-1432) | Borough of Sharpsville (14-03-2041P) | Mr. Kenneth P. Robertson, Manager, Borough of Sharpsville, 1 South Walnut Street, Sharpsville, PA 16150 | 1 South Walnut Street, Sharpsville, PA 16150 | October 22, 2014 | 420682
Mercer (FEMA Docket No.: B-1432) | City of Hermitage (14-03-2041P) | Mr. Gary P. Hinkson, Manager, City of Hermitage, 800 North Hermitage Road, Hermitage, PA 16148 | 800 North Hermitage Road, Hermitage, PA 16148 | October 22, 2014 | 421862
Mercer (FEMA Docket No.: B-1432) | Township of South Pymatuning (14-03-2041P) | The Honorable Brian Geisel, Chairman, Township of South Pymatuning Board of Supervisors, 3483 Tamarack Drive, Sharpsville, PA 16150 | Township of South Pymatuning, 3483 Tamarack Drive, Sharpsville, PA 16150 | October 22, 2014 | 421876
Texas:
Denton (FEMA Docket No.: B-1432) | Town of Flower Mound (14-06-0182P) | The Honorable Thomas Hayden, Mayor, Town of Flower Mound, 2121 Cross Timbers Road, Flower Mound, TX 75028 | Engineering Department, 1001 Cross Timbers Road, Suite 3220, Flower Mound, TX 75028 | October 14, 2014 | 480777
Harris (FEMA Docket No.: B-1424) | City of Houston (14-06-1647P) | The Honorable Annise D. Parker, Mayor, City of Houston, P.O. Box 1562, Houston, TX 77251 | Public Works and Engineering Department, 611 Walker Street, Houston, TX 77002 | October 6, 2014 | 480296
Harris (FEMA Docket No.: B-1424) | Unincorporated areas of Harris County (14-06-1080P) | The Honorable Ed M. Emmett, Harris County Judge, 1001 Preston Street, Suite 911, Houston, TX 77002 | Harris County, 10555 Northwest Freeway, Houston, TX 77092 | October 10, 2014 | 480287
Harris (FEMA Docket No.: B-1424) | Unincorporated areas of Harris County (14-06-1647P) | The Honorable Ed M. Emmett, Harris County Judge, 1001 Preston Street, Suite 911, Houston, TX 77002 | Harris County, 10555 Northwest Freeway, Houston, TX 77092 | October 6, 2014 | 480287
Harris (FEMA Docket No.: B-1424) | Unincorporated areas of Harris County (14-06-1656P) | The Honorable Ed M. Emmett, Harris County Judge, 1001 Preston Street, Suite 911, Houston, TX 77002 | Harris County, 10555 Northwest Freeway, Houston, TX 77092 | October 3, 2014 | 480287
Kendall (FEMA Docket No.: B-1432) | Unincorporated areas of Kendall County (13-06-4074P) | The Honorable Darrel L. Lux, Kendall County Judge, 201 East San Antonio Avenue, Suite 122, Boerne, TX 78006 | Kendall County Development and Floodplain Management Office, 201 East San Antonio Avenue, Suite 101, Boerne, TX 78006 | October 6, 2014 | 480417
McLennan (FEMA Docket No.: B-1424) | City of Robinson (13-06-4191P) | The Honorable Bryan Ferguson, Mayor, City of Robinson, 111 West Lyndale Drive, Robinson, TX 76706 | City Hall, 111 West Lyndale Drive, Robinson, TX 76706 | October 8, 2014 | 480460
Tarrant (FEMA Docket No.: B-1432) | City of Colleyville (13-06-4370P) | The Honorable David Kelly, Mayor, City of Colleyville, 100 Main Street, Colleyville, TX 76034 | Engineering Division, 100 Main Street, 2nd Floor, Colleyville, TX 76034 | September 17, 2014 | 480590
Tarrant (FEMA Docket No.: B-1432) | City of Keller (13-06-4370P) | The Honorable Mark Mathews, Mayor, City of Keller, P.O. Box 770, Keller, TX 76244 | City Hall, 1100 Bear Creek Parkway, Keller, TX 76248 | September 17, 2014 | 480602
Tarrant (FEMA Docket No.: B-1432) | City of Mansfield (14-06-0939P) | The Honorable David L. Cook, Mayor, City of Mansfield, 1200 East Broad Street, Mansfield, TX 76063 | City Hall, 1200 East Broad Street, Mansfield, TX 76063 | October 6, 2014 | 480606
Tarrant (FEMA Docket No.: B-1432) | City of Southlake (13-06-4370P) | The Honorable John Terrell, Mayor, City of Southlake, 1400 Main Street, Suite 270, Southlake, TX 76092 | Public Works Administration and Engineering, 1400 Main Street, Suite 320, Southlake, TX 76092 | September 17, 2014 | 480612
Travis (FEMA Docket No.: B-1432) | City of Lakeway (13-06-4373P) | The Honorable Dave DeOme, Mayor, City of Lakeway, 1102 Lohmans Crossing Road, Lakeway, TX 78734 | Floodplain Administrator's Office, 1102 Lohmans Crossing Road, Lakeway, TX 78734 | October 17, 2014 | 481303

[FR Doc. 2014-29016 Filed 12-10-14; 8:45 am]

BILLING CODE 9110-12-P